TENNESSEE VALLEY AUTHORITY

Meeting of the Regional Resource Stewardship Council

AGENCY: Tennessee Valley Authority (TVA).

ACTION: Notice of Meeting.

SUMMARY: The TVA Regional Resource Stewardship Council (RRSC) will hold a meeting on Wednesday, June 29, 2011, to consider TVA's Natural Resource Plan.

The RRSC was established to advise TVA on its natural resource stewardship activities. Notice of this meeting is given under the Federal Advisory Committee Act (FACA), 5 U.S.C. App. 2.

The management of the Tennessee Valley reservoirs and the lands adjacent to them has long been an integral component of TVA's mission. As part of implementing the TVA Environmental Policy, TVA is developing a Natural Resource Plan (NRP) that will help prioritize techniques for the management of TVA's biological and cultural resource management activities, recreation management activities, water resource protection and improvement activities, and reservoir lands planning. In accordance with the National Environmental Policy Act, TVA is also developing an accompanying Environmental Impact Statement (EIS) in which TVA will evaluate the preferred strategy for the NRP, as well as other viable alternative strategies. TVA is using the RRSC as a key stakeholder group throughout the development of the NRP to advise TVA on the issues, tradeoffs, and focus of environmental stewardship activities. The draft NRP and accompanying draft EIS were recently released for public comment. At the June 2011 meeting, TVA will be seeking advice from the RRSC on issues regarding the programs which comprise the NRP.

The meeting agenda includes the following:

1. Introductions.

2. Natural Resource Plan overview; Programs included in the NRP for biological, cultural, water, and recreational resources and reservoir lands planning; Historical spending; NRP funding and implementation; and incorporation of advice received from the RRSC at its April 2011 meeting.

3. Public Comments.

4. Council Discussion and Advice.

The RRSC will hear opinions and views of citizens by providing a public comment session. The public comment session will be held at 2 p.m. E.D.T., on Wednesday, June 29. Persons wishing to speak are requested to register at the door by 1 p.m. E.D.T., on Wednesday, June 29 and will be called on during the public comment period. Handout materials should be limited to one printed page. Written comments are also invited and may be mailed to the Regional Resource Stewardship Council, Tennessee Valley Authority, 400 West Summit Hill Drive, WT 11B, Knoxville, Tennessee 37902.

DATES: The meeting will be held on Wednesday, June 29 from 8:30 a.m. to 4 p.m. E.D.T.

ADDRESSES: The meeting will be held at Brasstown Valley Resort, 6321 U.S. Highway 76, Young Harris, Georgia, 30582 and will be open to the public. Anyone needing special access or accommodations should let the contact below know at least a week in advance.

FOR FURTHER INFORMATION CONTACT: Beth Keel, 400 West Summit Hill Drive, WT 11B, Knoxville, Tennessee 37902, (865) 632-6113.

Dated: May 25, 2011.
Anda A. Ray,
Senior Vice President and Environmental Executive, Environment and Technology, Tennessee Valley Authority.

[FR Doc. 2011-13753 Filed 6-2-11; 8:45 am]

BILLING CODE 8120-08-P